DEPARTMENT OF AGRICULTURE

Agricultural Marketing Service

[Docket # AMS-FV-2007-0005; FV-06-313]

United States Standards for Grades of Winter Pears

AGENCY: Agricultural Marketing Service, USDA.

ACTION: Notice; withdrawal.

SUMMARY: The Agricultural Marketing Service (AMS) is withdrawing the notice soliciting comments on its proposal to amend the voluntary United States Standards for Grades of Winter Pears. After reviewing and considering the comments received, the agency has decided not to proceed with this action.

DATES: Effective Date: February 16, 2007.

FOR FURTHER INFORMATION CONTACT: Vincent J. Fusaro, Standardization Section, Fresh Products Branch, (202) 720-2185. The United States Standards for Grades of Pineapples are available either through the address cited above or by accessing the Fresh Products Branch Web site at: http://www.ams.usda.gov/standards/stanfrfv.htm.

Background

AMS had identified the United States Standards for Grades of Winter Pears for possible revisions. The revision would delete § 51.1309, Condition after storage or transit, which states that “decay, scald or other deterioration which may have developed on pears after they have been in storage or transit shall be considered as affecting condition and not the grade.” The standards were published on September 10, 1955.

On November 2, 2006, AMS published a notice in the Federal Register (71 FR 64478) soliciting comments on a possible revision to the United States Standards for Grades of Winter Pears. The comments are available by accessing AMS, Fresh Products Branch Web site at: http://www.ams.usda.gov/fv/fpbdocketlist.htm. The comment period ended January 2, 2007. During that sixty-day comment period, twenty-two comments were submitted. All opposed a revision. The commenters generally felt that the current standard has been in place for many years and still is useful.

After reviewing and considering the comments received, AMS has decided not to proceed with the action.

(Authority: 7 U.S.C. 1621-1627.)

Dated: February 12, 2007.
Lloyd C. Day,
Administrator, Agricultural Marketing Service.

[FR Doc. E7-2728 Filed 2-15-07; 8:45 am]

BILLING CODE 3410-02-P